DEPARTMENT OF TRANSPORTATION

Federal Aviation Administration

14 CFR Part 39

[Docket No. 2001-SW-15-AD]

RIN 2120-AA64

Airworthiness Directives; Agusta S.p.A. Model A109C, A109E, and A109K2 Helicopters

AGENCY: Federal Aviation Administration, DOT.

ACTION: Notice of proposed rulemaking (NPRM).

SUMMARY: This document proposes to revise an existing airworthiness directive (AD) for Agusta S.p.A. (Agusta) Model A109C, A109E, and A109K2 helicopters. That AD currently requires inspecting the main rotor blade (blade) tip cap for bonding separation and a crack, and also requires a tap inspection of the tip cap for bonding separation in the blade bond area and a dye penetrant inspection of the tip cap leading edge along the welded joint line of the upper and lower tip cap skin shells for a crack. This action would require those same actions, but would correct a blade part number (P/N) that was stated incorrectly in the Applicability section of the existing AD. This proposal is prompted by the need to correct a blade P/N. The actions specified by the proposed AD are intended to prevent failure of a blade tip cap, excessive vibration, and subsequent loss of control of the helicopter.

DATES: Comments must be received by March 29, 2004.

ADDRESSES: Submit comments in triplicate to the Federal Aviation Administration (FAA), Office of the Regional Counsel, Southwest Region, Attention: Rules Docket No. 2001-SW-15-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-15-AD.” The postcard will be date stamped and returned to the commenter.

Discussion

On December 19, 2000, Agusta issued Alert Bollettino Tecnico Nos. 109-106, 109K-22, and 109EP-1, all Revision B, which specified inspecting for debond and cracks at the tip cap of blades, P/N 709-0103-01, all dash numbers, through serial numbers 1428 with a prefix of “A5” or “EM”.

The Ente Nazionale per l'Aviazionne Civile (ENAC), the airworthiness authority for Italy, classified these technical bulletins as mandatory and issued AD Nos. 2000-571, 2000-572, and 2000-573, all dated December 22, 2000, requiring an inspection of the tip cap of blades for disbonds or cracks on the specified Agusta Model A109C, A109E, and A109K2 helicopters.

These helicopter models are manufactured in Italy and are type certificated for operation in the United States under the provisions of 14 CFR 21.29 and the applicable bilateral agreement. Pursuant to the applicable bilateral agreement, ENAC has kept the FAA informed of the situation described above. The FAA has examined the findings of ENAC, reviewed all available information, and determined that AD action is necessary for products of these type designs that are certificated for operation in the United States.

On November 21, 2001, the FAA issued AD 2001-24-07, Amendment 39-12523 (66 FR 60144, December 3, 2001), which superseded AD 98-19-04, Amendment 39-11039, Docket No. 98-SW-40-AD. AD 98-19-04 required inspecting between the metal shells and honeycomb core for bonding separation, visually inspecting the blade tip for swelling or deformation, and visually inspecting the welded bead along the leading edge of the blade tip cap for a crack. AD 2001-24-07 retained those requirements, and added a requirement for a tap inspection of the tip cap for bonding separation in the blade bond area, and a dye penetrant inspection of the tip cap leading edge along the welded joint line of the upper and lower tip cap skin shells for a crack. Installing a tip cap, P/N 709-0103-29-109, on an affected blade is a terminating action for the requirements of the existing AD for that blade. That action was prompted by three occurrences in which the blade tip cap leading edge opened in flight due to cracks, resulting in excessive helicopter vibration. That condition, if not corrected, could result in failure of a blade tip cap, excessive vibration, and subsequent loss of control of the helicopter.

Since issuing AD 2001-24-07, we discovered that a blade P/N was incorrectly stated in the Applicability section of the AD. P/N 709-0130-01-all dash numbers should have been stated as P/N 709-0103-01-all dash numbers.

The previously described unsafe condition is likely to exist or develop on other helicopters of these same type designs. Therefore, the proposed AD would revise AD 2001-24-07 to correct the P/N and to continue to require:

• A tap inspection of the upper and lower sides of the tip cap for bonding separation and in the tip cap to blade bond area;

• A visual inspection of the upper and lower side of the blade tip cap for swelling or deformation; and

• A dye penetrant inspection of the tip cap leading edge along the welded joint line of the upper and lower tip cap skin shells for a crack.

The FAA estimates that this proposed AD would affect 44 helicopters of U.S. registry, and the proposed actions would take approximately 6 work hours per helicopter to accomplish the initial and repetitive inspection at an average labor rate of $65 per work hour. Based on these figures, we estimate the total cost impact of the proposed AD on U.S. operators to be $17,160, assuming that no blade will need to be replaced as a result of these inspections.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12523 (66 FR 60144), and by adding a new airworthiness directive (AD), to read as follows:

Agusta S.p.A.: Docket No. 2001-SW-15-AD. Revises AD 2001-24-07, Amendment 39-12523.

Applicability: Model A109C, A109E, and A109K2 helicopters, with main rotor blade (blade), part number (P/N) 709-0103-01-all dash numbers, having a serial number (S/N) up to and including S/N 1428 with a prefix of either “EM-” or “A5-” installed, certificated in any category.

Compliance: Required within 10 hours time-in-service (TIS), unless accomplished previously, and thereafter at intervals not to exceed 25 hours TIS.

To prevent failure of a blade tip cap, excessive vibration, and subsequent loss of control of the helicopter, accomplish the following:

(a) Tap inspect the upper and lower sides of each tip cap for bonding separation between the metal shells and the honeycomb core using a steel hammer, P/N 109-3101-58-1, or a coin (quarter) in the area indicated as honeycomb core on Figure 1 of Alert Bollettino Tecnico Nos. 109-106, 109K-22, or 109EP-1, all Revision B, and dated December 19, 2000 (ABT), as applicable. Also, tap inspect for bonding separation in the tip cap to blade bond area (no bonding voids are permitted in this area).

(b) Visually inspect the upper and lower sides of each blade tip cap for swelling or deformation.

(c) Dye-penetrant inspect the tip cap leading edge along the welded joint line of the upper and lower tip cap skin shells for a crack in accordance with the Compliance Instructions, paragraph 3, of the applicable ABT.

(d) If any swelling, deformation, crack, or bonding separation that exceeds the prescribed limits in the applicable maintenance manual is found, replace the blade with an airworthy blade.

(e) Replacement blades affected by this AD must comply with the repetitive inspection requirements of this AD. Replacing an affected blade with a blade having an airworthy blade tip cap, P/N 709-0103-29-109, is terminating action for the requirements of this AD for that blade.

(f) To request a different method of compliance or a different compliance time for this AD, follow the procedures in 14 CFR 39.19. Contact the Safety Management Office, Rotorcraft Directorate, FAA, for information about previously approved alternative methods of compliance.

Note: The subject of this AD is addressed in Ente Nazionale per l'Aviazionne Civile (Italy) AD Nos. 2000-571, 2000-572, and 2000-573, all dated December 22, 2000.

Issued in Fort Worth, Texas, on January 16, 2004.
David A. Downey,
Manager, Rotorcraft Directorate, Aircraft Certification Service.

[FR Doc. 04-1687 Filed 1-26-04; 8:45 am]

BILLING CODE 4910-13-P